INTERNATIONAL TRADE COMMISSION

[Investigation No. 337-TA-898]

Certain Marine Sonar Imaging Devices, Products Containing the Same, and Components Thereof; Commission Determination Not To Review an Initial Determination Granting Complainants' Motion To Amend the Complaint and the Notice of Investigation

AGENCY: U.S. International Trade Commission.

ACTION: Notice.

SUMMARY: Notice is hereby given that the U.S. International Trade Commission has determined not to review an initial determination (“ID”) (Order No. 5) issued by the presiding administrative law judge (“ALJ”) on December 16, 2013, granting the complainants' unopposed motion to amend the complaint and notice of investigation to add further respondents.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 13, 2013, based on a complaint filed by Navico, Inc. and Navico Holding AS (“Navico”). 78 FR 68091-92. The complaint alleges violations of section 337 of the Tariff Act of 1930, as amended, 19 U.S.C. 1337 (“section 337”), in the importation into the United States, the sale for importation, and the sale within the United States after importation of certain marine sonar imaging devices, products containing the same, and components thereof, by reason of infringement of certain claims of U.S. Patent Nos. 8,300,499 and 8,305,840. The Commission's notice of investigation named as respondents Raymarine, Inc. of Nashua, New Hampshire; Raymarine UK Ltd. of Fareham, United Kingdom; and In-Tech Electronics Ltd. of Hong Kong.

On December 11, 2013, Navico filed an unopposed motion to amend the complaint and notice of investigation to add as respondents Raymarine Belgium BVBA, In-Tech Electronics (Shenzhen) Ltd., and In-Tech Science & Technology R&D Ltd. Navico states that there is good cause for such an amendment because Navico only recently learned of the relevance of these additional parties through the original respondents' discovery responses. Navico further contends that no party will suffer prejudice because the investigation is still at an early stage.

On December 16, 2013, the ALJ issued the subject ID, granting Navico's unopposed motion to amend the complaint and notice of investigation. The ALJ found good cause for granting the motion because the amendment is based on information learned recently through discovery and will not prejudice the parties. No petitions for review were filed.

The Commission has determined not to review the subject ID.

The authority for the Commission's determination is contained in section 337 of the Tariff Act of 1930, as amended (19 U.S.C. 1337), and in Part 210 of the Commission's Rules of Practice and Procedure (19 CFR part 210).

By order of the Commission.
Issued: January 15, 2014.
Lisa R. Barton,
Acting Secretary to the Commission.

[FR Doc. 2014-01081 Filed 1-17-14; 8:45 am]

BILLING CODE 7020-02-P